NUCLEAR REGULATORY COMMISSION

Office of New Reactors; Interim Staff Guidance; Limited Work Authorizations; Solicitation of Public Comment

AGENCY: Nuclear Regulatory Commission (NRC).

ACTION: Solicitation of public comment.

SUMMARY: The NRC is soliciting public comment on its Proposed Interim Staff Guidance (ISG) COL/ESP-ISG-004. This ISG would replace the previous guidance issued in June 2007 in Regulatory Guide (RG) 1.206, “Combined License Applications for Nuclear Power Plants (LWR Edition),” concerning requests for limited work authorizations submitted as part of an early site permit or combined license application. Upon receiving public comments, the NRC staff will evaluate and disposition the comments, as appropriate. Once the NRC staff completes the COL/ESP-ISG, the staff will issue it for use. The NRC staff will also incorporate the approved COL/ESP-ISG-004 into the next revisions of the RG 1.206 and NUREG-0800, “Standard Review Plan for the Review of Safety Analysis Reports for Nuclear Power Plants,” and related guidance documents.

Several sections of NUREG-1555, “Environmental Standard Review Plan,” (ESRP) are currently being revised; the public and industry have already commented on these revised sections. The NRC staff also plans to revise the rest of the ESRP sections over the next several months. The NRC staff plans to include any changes in the ESRP sections necessary for consistency with the revised LWA rule as part of that overall revision process. The NRC staff also plans to update Regulatory Guide 4.2, “Preparation of Environmental Reports for Nuclear Power Stations,” over the next several months. This update will also include any revisions necessary for consistency with the revised LWA rule.

DATES: Comments must be filed no later than 30 days from the date of publication of this notice in the Federal Register. Comments received after this date will be considered, if it is practical to do so, but the NRC staff is able to ensure consideration only for comments received on or before this date.

ADDRESSES: Comments may be submitted to: Chief, Rules and Directives Branch, Office of Administration, U.S. Nuclear Regulatory Commission, Washington, DC 20555-0001. Comments should be delivered to: 11545 Rockville Pike, Rockville, Maryland, Room T-6D59, between 7:30 a.m. and 4:15 p.m. on Federal workdays. Persons may also provide comments via e-mail to nrcrep.resource@nrc.gov. The NRC maintains an Agencywide Documents Access and Management System (ADAMS), which provides text and image files of NRC's public documents. These documents may be accessed through the NRC's Public Electronic Reading Room on the Internet at http://www.nrc.gov/reading-rm/adams.html. Persons who do not have access to ADAMS or who encounter problems in accessing the documents located in ADAMS should contact the NRC Public Document Room (PDR) reference staff at 1-800-397-4209, 301-415-4737, or by e-mail at pdr@nrc.gov.

FOR FURTHER INFORMATION CONTACT: Ms. Nanette V. Gilles, Division of New Reactor Licensing, Office of the New Reactors, U.S. Nuclear Regulatory Commission, Washington, DC 20555-0001; telephone 301-415-1180 or e-mail at Nanette.Gilles@nrc.gov or Mr. Richard Emch, Division of Site and Environmental Reviews, Office of the New Reactors, U.S. Nuclear Regulatory Commission, Washington, DC 20555-0001; telephone 301-415-1590 or e-mail at Richard.Emch@nrc.gov.

SUPPLEMENTARY INFORMATION: The NRC posts its issued staff guidance on the NRC external Web page (http://www.nrc.gov/reading-rm/doc-collections/isg/).

The NRC staff is issuing this notice to solicit public comments on the proposed COL/ESP-ISG-004. After the NRC staff considers any public comments, it will make a determination regarding the proposed COL/ESP-ISG-004.

Dated at Rockville, Maryland, this 31st day of March, 2008.
For the Nuclear Regulatory Commission.
David B. Matthews,
Director, Division of New Reactor Licensing, Office of New Reactors.

[FR Doc. E8-7296 Filed 4-7-08; 8:45 am]

BILLING CODE 7590-01-P